DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2011 Opioid Treatment Program (OTP) Supplement Survey—NEW

The Substance Abuse and Mental Health Services Administration's (SAMHSA) Center for Behavioral Health Statistics and Quality (CBHSQ) (formerly the Office of Applied Studies—OAS), in conjunction with the Center for Substance Abuse Treatment (CSAT), will conduct a facility-level census survey of opioid treatment programs (OTPs). Approximately 1,200 substance abuse treatment facilities identified by SAMHSA as being certified OTPs will make up the survey universe. In order to realize efficiencies in cost and data analysis, the survey will be conducted in conjunction with the 2011 National Survey of Substance Abuse Treatment Facilities (N-SSATS, OMB No. 0930-0106). However, a separate OMB approval will be requested for the OTP survey.

The OTP survey will use the same point prevalence date as the N-SSATS and will offer the same response options (paper questionnaire, online via the Internet, or by telephone with an interviewer). The information collected will include detailed information on OTP client characteristics and OTP facility operations, information that is not currently obtained by the N-SSATS or other federally-sponsored surveys.

The findings will supplement information collected by the annual N-SSATS and will be published by SAMHSA in a separate report on Opioid Treatment Programs. Survey data will also be used to update SAMHSA's “Medication-Assisted Treatment for Opioid Addiction State Profiles.” These publications will be used by the Federal government, State and local governments, the U.S. Congress, researchers, and other health care professionals. The following Table summarizes the estimated response burden for the survey.

Estimated Total Response Burden for the 2011 OTP Survey
| Number of respondents | Responses per respondent | Average hours per response | Total hour burden
Certified OTP Facilities—2011 Survey | 1,200 | 1 | .83 | 996

Send comments to Summer King, SAMHSA Reports Clearance Officer, Room 8-1099, One Choke Cherry Road, Rockville, MD 20857 AND e-mail a copy to summer.king@samhsa.hhs.gov. Written comments should be received within 60 days of this notice.

Dated: September 23, 2010.
Elaine Parry,
Director, Office of Management, Technology, and Operations.

[FR Doc. 2010-24505 Filed 9-30-10; 8:45 am]

BILLING CODE 4162-20-P